DEPARTMENT OF HOMELAND SECURITY

U.S. Customs and Border Protection

Notice of the Withdrawal of a 1994 Programmatic Environmental Impact Statement and a 2001 Supplemental Environmental Impact Statement Regarding Certain Activities Along the U.S. Southwest Border

AGENCY: U.S. Customs and Border Protection, DHS.

ACTION: Notice of withdrawal of a programmatic environmental impact statement and a supplemental programmatic environmental impact statement.

SUMMARY: This Notice is published to provide public awareness of the decision of both U.S. Customs and Border Protection (CBP), a component of the Department of Homeland Security (DHS), and Joint Task Force—North (JTF-N), a joint command of the Department of Defense (DoD), to withdraw the Records of Decision for the joint Programmatic Environmental Impact Statement (PEIS) of 1994 and the Supplemental PEIS (SPEIS) of 2001. The documents were titled “Programmatic Environmental Impact Statement for JTF-6 Activities Along the U.S./Mexico Border” and “Supplemental Programmatic Environmental Impact Statement for INS and JTF-6 Activities.” These documents were created by entities which no longer exist. These documents are no longer used to provide compliance with the National Environmental Policy Act (NEPA) for any actions of entities within either Department. Actions currently taken by either CBP or JTF-N comply with NEPA through analysis of individual projects. The successor to the Immigration and Naturalization Service (INS) is CBP, and the successor to JTF-6 is JTF-N.

FOR FURTHER INFORMATION CONTACT: Mr. Christopher Oh, Director, Energy and Environmental Management Division, Facilities Management and Engineering Division, Office of Facilities and Asset Management at 202-344-2448.

SUPPLEMENTARY INFORMATION:

Background

The Homeland Security Act of 2002 created DHS. One of the principal mission responsibilities of DHS is border security. CBP is the DHS component with primary responsibility for border security. In 2003, Congress created CBP by combining elements of the former INS, including the United States Border Patrol (USBP), and the former U.S. Customs Service, and made it a component agency of DHS. CBP has a priority mission of keeping terrorists and their weapons out of the United States. It is also charged with enforcing customs, immigration, agriculture and other laws at the nation's borders while facilitating legitimate trade and travel through the Ports of Entry (POEs). As part of its border security mission, CBP is charged with deterring and preventing cross-border violations both at and between the POEs, including illegal immigration and illegal trafficking of human beings, narcotics, weapons, and other contraband.

Based in Fort Bliss, Texas, Joint Task Force North (JTF-N) is a joint service command comprised of active-duty and reserve component soldiers, sailors, airmen, Marines, coast guardsmen, DoD civilian employees, and contracted support personnel. JTF-N is the DoD organization tasked to support our nation's federal law enforcement agencies in the identification and interdiction of suspected transnational criminal organizations' activities conducted within and along the approaches to the continental United States.

In 1994, the INS, then a part of the Department of Justice, and JTF-6, a joint command within DoD, jointly prepared a Programmatic Environmental Impact Statement (the 1994 PEIS). The 1994 PEIS was intended to address the cumulative effects of past and reasonably foreseeable projects undertaken by JTF-6 for numerous law enforcement agencies within the four southwestern states. JTF-6 was, at the time, a recently formed military command that provided assistance and support to various counter drug law enforcement agencies along the southwest border.

In 2001, the INS and JTF-6 prepared a Supplemental PEIS (SPEIS). Instead of addressing the support activities JTF-6 would provide to numerous law enforcement agencies across the southwest border, the 2001 SPEIS focused on the support activities JTF-6 would specifically provide to USBP. The intent and purpose of the 2001 SPEIS was to assess and analyze the potential impacts of the JTF-6 activities “in support of INS/USBP.” The Record of Decision for this SPEIS was signed in 2002 by the INS and JTF-6. For both EISs in question, the INS was the lead agency and JTF-6 was a cooperating agency.

The 1994 PEIS and the 2001 SPEIS were created by entities that no longer exist. For this and other reasons, CBP and JTF-N no longer rely on the 1994 PEIS or the 2001 SPEIS to achieve NEPA compliance for their actions and activities on the southwest border.¹

¹ See National Environmental Policy Act of 1969, as amended, Public Law 91-190, 83 Stat. 852 (Jan. 1, 1970).

Rather, both CBP and JTF-N achieve NEPA compliance for their actions and activities on the southwest border through site-specific or project-specific NEPA analyses. CBP and JTF-N believe their decision-makers are well-served by site-specific or project-specific NEPA analyses. Unlike a sprawling programmatic NEPA analysis, a site-specific or project-specific NEPA analysis gives decision-makers concrete and tangible information regarding the potential impacts of a proposed action. In addition, because every site-specific or project-specific analysis includes an analysis of cumulative impacts, they also present decision-makers with a larger frame of reference in which to understand those impacts.

Withdrawal of PEIS and Supplemental PEIS

Based on the experience of CBP and JTF-N, and the nature of the 1994 PEIS and 2001 SPEIS, CBP and JTF-N have withdrawn both the 1994 PEIS and the 2001 SPEIS and their respective Records of Decision. Both of these documents contain potentially valuable information. The withdrawal of the 1994 PEIS and the 2001 SPEIS and their respective Records of Decision does not in any way impinge on the ability of those preparing NEPA analyses in the future to use that information by citing the independent source(s) of the information, provided the continued accuracy of the information is validated.

Dated: May 23, 2019.
Karl H. Calvo,
Assistant Commissioner, Office of Facilities and Asset Management, Office of Enterprise Services, U.S. Customs and Border Protection.

[FR Doc. 2019-11251 Filed 5-29-19; 8:45 am]

BILLING CODE 9111-14-P